DEPARTMENT OF TRANSPORTATION

Federal Aviation Administration

[FAA-2020-0441]

Agency Information Collection Activities: Requests for Comments; Clearance of Renewed Approval of Information Collection: NAS Data Release Request

AGENCY: Federal Aviation Administration (FAA), Transportation (DOT).

ACTION: Notice and request for comments.

SUMMARY: In accordance with the Paperwork Reduction Act of 1995, the FAA invites public comments about our intention to request the Office of Management and Budget (OMB) approval to renew an information collection. The collection is an application form, and collection frequency is on occasion, depending on how often requests for National Airspace System (NAS) data are submitted to the FAA. The information to be collected will be used to evaluate the validity of a user's request for NAS data from FAA systems and equipment.

DATES: Written comments should be submitted by November 23, 2020.

ADDRESSES: Please send written comments:

By Electronic Docket: www.regulations.gov (Enter docket number into search field).

Because of the coronavirus pandemic, written comments are not being received by mail or fax.

FOR FURTHER INFORMATION CONTACT: Michelle Somerday by email at: michelle.somerday@covellsolutions.com; phone: 703.672.3853.

SUPPLEMENTARY INFORMATION: Public Comments Invited: You are asked to comment on any aspect of this information collection, including (a) Whether the proposed collection of information is necessary for the FAA's performance; (b) the accuracy of the estimated burden; (c) ways for the FAA to enhance the quality, utility and clarity of the information collection; and (d) ways that the burden could be minimized without reducing the quality of the collected information. The agency will summarize and/or include your comments in the request for OMB's clearance of this information collection.

OMB Control Number: 2120-0668.

Title: NAS Data Release Request.

Form Numbers: FAA Form 1200-5.

Type of Review: Renewal of an information collection.

Background: This information collection is required to obtain or retain a benefit, which is to obtain NAS data from the FAA. The information submitted includes: Whether the requestor currently receives NAS data, the authority to access NAS data, the type of data requested, the proposed method for acquiring data, the purpose of the request, the process for filtering sensitive data, and who at the requestor's organization will be used for the data request, including the scope and nature of work the individual will perform.

This information must be collected to enable the FAA to evaluate the validity of a user's request for NAS data from FAA systems and equipment. The information provided by the requestor is used by the FAA NAS Data Release Board (NDRB) to approve or disapprove individual requests for NAS data, consistent with FAA Order 1200.22E External Requests for National Airspace System (NAS) Data.

Respondents: Approximately 15 requests submitted annually to the FAA by requestors of NAS data.

Frequency: On occasion.

Estimated Average Burden per Response: 1 hour.

Estimated Total Annual Burden: 15 hours total.

Issued in Washington, DC, on July 15, 2020.
Virginia Boyle,
Deputy Vice President, System Operations Services.

[FR Doc. 2020-20880 Filed 9-21-20; 8:45 am]

BILLING CODE 4910-13-P